DEPARTMENT OF THE INTERIOR

National Park Service

[NPS-WASO-NRNHL-21666; PPWOCRADI0, PCU00RP14.R50000]

National Register of Historic Places; Notification of Pending Nominations and Related Actions

AGENCY: National Park Service, Interior.

ACTION: Notice.

SUMMARY: The National Park Service is soliciting comments on the significance of properties nominated before July 30, 2016, for listing or related actions in the National Register of Historic Places.

DATES: Comments should be submitted by September 2, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION:

The properties listed in this notice are being considered for listing or related actions in the National Register of Historic Places. Nominations for their consideration were received by the National Park Service before July 30, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

INDIANA

Boone County

Lebanon Courthouse Square Historic District, Roughly bounded by North, East, South, Superior & West Sts., Lebanon, 16000610

Fountain County

Mc Donald, James and Lucinda, House, 500 E. Jackson St., Attica, 16000611

Hendricks County

Blanton, Forest W. and Jeannette Wales, House, 625 N. Washington St., Danville, 16000612

Vigo County

New Goshen District No. 2 School (Indiana's Public Common and High Schools MPS), 9620 Rangeline Place, New Goshen, 16000613

IOWA

Linn County

Coggon Public School, 408 E. Linn St., Coggon, 16000605

Muscatine County

Wilton Commercial Historic District (Iowa's Main Street Commercial Architecture MPS), Roughly bounded by 4th, E. & W. Cedar, Railroad E. & W. & Chestnut Sts., Wilton, 16000606

Polk County

Cottage Grove Avenue Presbyterian Church (The City Beautiful Movement and City Planning in Des Moines, Iowa, 1892-1938 MPS), 1050 24th St., Des Moines, 16000607

Story County

Masonic Temple (Home for Science and Technology: Ames, IA MPS), 413, 417, 427, 429 Douglas Ave., Ames, 16000608

Winneshiek County

Milwaukee and St. Paul Railway Combination Depot, 203 W. Pearl St., Decorah, 16000609

MISSISSIPPI

Alcorn County

Quitman Downtown—Mill Historic District, Roughly bounded by Long Blvd., Jackson, Franklin & Railroad Aves., Quitman, 16000614

Harrison County

Gulf Gardens Historic District, Roughly bounded by 34th Ave., Terrance Dr., 18th & 15th Sts., Gulfport, 16000615

Pearl River County

Hermitage, The, 1 River Rd., Picayune, 16000616

OHIO

Cuyahoga County

Lion Knitting Mills, 3256 W. 25th St., Cleveland, 16000617

OKLAHOMA

Comanche County

Central Fire Station, 623 SW. D Ave., Lawton, 16000618

Creek County

Klingensmith Park Amphitheater, W. 7th, W. 5th & Country Club Dr., Bristow, 16000619

Oklahoma County

Lincoln Park Bathhouse, 2000 Remington Place, Oklahoma City, 16000620

Mutual Savings and Loan Association Building, 601-605 NW. 23rd St., Oklahoma City, 16000621

Payne County

Pruett House, 155 Redwood Dr., Stillwater, 16000622

Rogers County

Downtown Claremore Historic District, W. Will Rogers Blvd. bounded by Rt. 66, Muskogee Ave., 4th St. & alley between W. Will Rogers Blvd. & 2nd St., Claremore, 16000623

Tulsa County

Blue Cross Blue Shield of Oklahoma Building, 1215 S. Boulder Ave., Tulsa, 16000624

Downtown Tulsa YMCA, 515 S. Denver Ave., Tulsa, 16000625

OREGON

Jackson County

Eagle Point National Cemetery, 2763 Riley Rd., Eagle Point, 16000626

A request for removal has been received for the following resources:

INDIANA

Jackson County

Bell Ford Post Patented Diagonal “Combination Bridge”, IN 258 1.5 mi. W of IN 258 and Community Dr., Seymour, 05000194

LOUISIANA

Calcasieu Parish

Arcade Theater, 822 Ryan St., Lake Charles, 78001420

Authority: 60.13 of 36 CFR part 60

Dated: August 2, 2016.
Julie H. Ernstein,
Acting Chief, National Register of Historic Places/National Historic Landmarks Program.

[FR Doc. 2016-19701 Filed 8-17-16; 8:45 am]

BILLING CODE 4312-51-P